DEPARTMENT OF THE INTERIOR

Bureau of Land Management

[14XL1109AF.LLUT950000.L16400000.HO0000]

Notice of a Hazardous Waste Temporary Closure in Tooele County, Utah

AGENCY: Bureau of Land Management, Interior.

ACTION: Notice of temporary closure.

SUMMARY: This is a notice of a temporary closure of certain public lands in Toole County, Utah administered by the Bureau of Land Management (BLM), Salt Lake Field Office. This closure is being made to protect public safety due to a release of hazardous waste at the site.

DATES: This public land closure will be in effect from February 25, 2014 to May 25, 2016.

FOR FURTHER INFORMATION CONTACT: Kevin Oliver, District Manager, West Desert District, 2370 South Decker Lake Boulevard, West Valley City, Utah 84119; Phone: (801) 977-4300; email: blm_ut_sl_mail@blm.gov. Persons who use a telecommunications device for the deaf (TDD) may call the Federal Information Relay Service (FIRS) at 1-800-877-8339 to contact the above individual during normal business hours. The FIRS is available 24 hours a day, 7 days a week, to leave a message or question with the above individual. You will receive a reply during normal hours.

SUPPLEMENTARY INFORMATION: This temporary closure is being made for public safety and affects public lands near the US Magnesium Rowley Plant in Tooele County, Utah. The U.S. Environmental Protection Agency (EPA) and US Magnesium (USM) have voluntarily entered into an Administrative Order on Consent (AOC) to address the recent release of acidic liquid waste from USM's magnesium production facility onto its own and adjacent BLM lands. The AOC details a three-phased action plan to address the spill. The first phase is to immediately fence the portion of the spill on BLM-managed lands. On February 25, 2014, the BLM issued a letter of authorization to USM to take immediate action and construct a fence on BLM-administered lands around the acidic liquid waste spill area. The BLM also issued a closure order for the area within the enclosure surrounding the waste spill area. This closure order was posted in the Salt Lake Field Office on February 25, 2014. A map of the affected area and other documents associated with this closure are available at 2370 South Decker Lake Boulevard, West Valley, Utah 84119, or online at: https://www.blm.gov/ut/enbb/index.php. These actions are emergency responses for public safety, which under the applicable regulation do not require prior NEPA compliance (43 CFR 46.150(a)). The BLM will be preparing a separate environmental assessment evaluating an extension of the temporary closure beyond the initial period identified above. Under the authority of Section 303(a) of the Federal Land Policy and Management Act of 1976 (42 U.S.C. 1733(a)), as amended, and 43 CFR 8364.1, the BLM is enforcing the following closure for public safety:

Salt Lake Meridian

T. 2 S., R. 8 W.,

Sec. 4, SE1/4NW1/4.

The closure area is 19 acres.

Unless otherwise authorized, no person shall:

Enter the closed area described above.

Any person who violates the above rule and/or restriction may be tried before a United States Magistrate, and fined no more than $1,000, imprisoned for no more than 12 months, or both. Such violations may also be subject to the enhanced fines provided for by 18 U.S.C. 3571.

Authority: 43 CFR 8364.1.

Juan Palma,
State Director.

[FR Doc. 2014-10508 Filed 5-6-14; 8:45 am]

BILLING CODE 4310-DQ-P